DEPARTMENT OF TRANSPORTATION

Federal Highway Administration

Notice of Final Federal Agency Actions on Proposed Highway in Utah

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed transportation corridor project (Hyde Park to North Logan Transportation Corridor) in Cache County in the State of Utah. Those actions grant licenses, permits, and approvals for the project.

DATES: By this notice, the FHWA is advising the public of final agency actions subject to 23 U.S.C. 139(l)(1). A claim seeking judicial review of the FHWA actions on the highway project will be barred unless the claim is filed on or before June 10, 2012. If the Federal law that authorizes judicial review of a claim provides a time period of less than 180 days for filing such claim, then that shorter time period still applies.

FOR FURTHER INFORMATION CONTACT: For FHWA: Mr. Edward Woolford, Environmental Program Manager, Federal Highway Administration, 2520 West 4700 South, Suite 9A, Salt Lake City, Utah 84129; telephone (801) 955-3524; email: Edward.Woolford@dot.gov. The FHWA Utah Division's regular business hours are Monday through Friday, 7:30 a.m. to 4:30 p.m. MST. For UDOT: Mr. Brandon Weston, Environmental Services Director, 4501 South 2700 West, Salt Lake City, Utah 84114; telephone: (801) 965-4603; email: brandonweston@utah.gov. The UDOT's normal business hours are Monday through Friday, 8 a.m. to 5 p.m. MST.

SUPPLEMENTARY INFORMATION: Notice is hereby given that the FHWA has taken final agency actions subject to 23 U.S.C. 139(l)(1) by issuing licenses, permits, and approvals for the following highway project in the State of Utah: the Hyde Park to North Logan Transportation Corridor (200 East) in Cache County, Utah, project number FHWA-UT-EIS-07-04-F. The roadway will extend from 1400 North in Logan to 3700 North in Hyde Park. The selected alternative follows 200 East between 1400 North and 2200 North, shifts west to follow 100 East between 2400 North and 2800 North, then shifts east to follow 150 East to 3700 North. The selected alternative will be five lanes (two through lanes in each direction and a center turn lane) from 1400 North to 2200 North and three lanes (one through lane in each direction and a center turn lane) from 2200 North to 3700 North. Portions of the project will be constructed on new alignment and will likely be implemented using a phased approach, which is described in the Final Environmental Impact Statement (FEIS). These actions will improve regional connectivity and mobility and provide transportation infrastructure that supports economic development within the cities of Hyde Park, Logan, and North Logan in Utah.

The actions by the FHWA, and the laws under which such actions were taken, are described in the FEIS for the project, approved on June 22, 2011, in the FHWA Record of Decision (ROD) issued on October 14, 2011, and in other documents in the FHWA administrative record. The FEIS, ROD, and other documents in the FHWA administrative record are available by contacting the FHWA or the UDOT at the addresses provided above. The FHWA FEIS and ROD can be viewed and downloaded from the project Web site at http://www.cachempo.org or viewed at public libraries in the project area.

This notice applies to all FHWA decisions as of the issuance date of this notice and all laws under which such actions were taken, including but not limited to:

1. General: National Environmental Policy Act (NEPA) [42 U.S.C. 4321- 4351]; Federal-Aid Highway Act [23 U.S.C. 109 and 23 U.S.C. 128];

2. Air: Clean Air Act [42 U.S.C. 7401- 7671(q)];

3. Land: Section 4(f) of the Department of Transportation Act of 1966 [49 U.S.C. 303];

4. Wildlife: Endangered Species Act [16 U.S.C. 1531-1544 and Section 1536]; Migratory Bird Treaty Act [16 U.S.C. 703-712];

5. Historic and Cultural Resources: Section 106 of the National Historic Preservation Act of 1966, as amended [16 U.S.C. 470(f) et seq.];

6. Social and Economic: Civil Rights Act of 1964 [42 U.S.C. 2000(d)- 2000(d)(1)]; Farmland Protection Policy Act (FPPA) [7 U.S.C. 4201-4209];

7. Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: November 29, 2011.
James C. Christian,
Division Administrator, Salt Lake City.

[FR Doc. 2011-31802 Filed 12-12-11; 8:45 am]

BILLING CODE 4910-RY-P